DEPARTMENT OF TRANSPORTATION

Federal Aviation Administration

14 CFR Part 39

[Docket No. FAA-2006-25239; Directorate Identifier 2006-NE-23-AD; Amendment 39-15196; AD 2007-19-06]

RIN 2120-AA64

Airworthiness Directives; General Electric Company Aircraft Engine Group (GEAE) CF6-45A Series, CF6-50A, CF6-50C Series and CF6-50E Series Turbofan Engines

AGENCY: Federal Aviation Administration (FAA), Department of Transportation (DOT).

ACTION: Final rule.

SUMMARY: The FAA is adopting a new airworthiness directive (AD) for GEAE CF6-45A, -45A2, -50A, -50C, -50CA, -50C1, -50C2, -50C2B, -50C2D, -50C2F, -50C2R, -50E, -50E1, - 50E2, and -50E2B turbofan engines. This AD requires replacing the compressor discharge pressure (CDP) restoring spring assembly on certain main engine controls (MECs) or re-marking MECs that already incorporate GEAE Service Bulletin (SB) No. CF6-50 S/B 73-0119, dated March 21, 2005. This AD results from reports of five events involving fractured CDP restoring spring assemblies. We are issuing this AD to prevent loss of engine thrust control that could lead to loss of control of the airplane.

DATES: This AD becomes effective October 23, 2007. The Director of the Federal Register approved the incorporation by reference of certain publications listed in the regulations as of October 23, 2007.

ADDRESSES: You can get the service information identified in this AD from General Electric Company via GE-Aviation, Attn: Distributions, 111 Merchant St., Room 230, Cincinnati, Ohio 45246; telephone (513) 552-3272; fax (513) 552-3329.

The Docket Operations office is located at U.S. Department of Transportation, Docket Operations, M-30, West Building, Ground Floor, Room W12-140, 1200 New Jersey Avenue, SE., Washington, DC 20590.

FOR FURTHER INFORMATION CONTACT: Tara Chaidez, Aerospace Engineer, Engine Certification Office, FAA, Engine & Propeller Directorate, 12 New England Executive Park, Burlington, MA 01803; telephone (781) 238-7773; fax (781) 238-7199.

SUPPLEMENTARY INFORMATION: The FAA proposed to amend 14 CFR part 39 with a proposed AD. The proposed AD applies to GEAE CF6-45A, -45A2, -50A, -50C, -50CA, -50C1, -50C2, -50C2B, -50C2D, -50C2F, -50C2R, -50E, -50E1, -50E2, and -50E2B turbofan engines. We published the proposed AD in the Federal Register on May 31, 2007 (74 FR 30300). That action proposed to require replacing the CDP restoring spring assembly on certain MECs and re-marking MECs that already incorporate GEAE SB No. CF6-50 S/B 73-0119, dated March 21, 2005 or GEAE SB No. CF6-50 S/B 73-0119, Revision 01, dated May 26, 2006.

Examining the AD Docket

You may examine the AD docket on the Internet at http://dms.dot.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We have considered the comments received. The commenters support the proposal.

Conclusion

We have carefully reviewed the available data, including the comments received, and determined that air safety and the public interest require adopting the AD as proposed.

Costs of Compliance

We estimate that this proposed AD would affect 756 GEAE CF6-45A, -50C, and -50E series turbofan engines installed on airplanes of U.S. registry. We also estimate that it would take about 40 work-hours per engine to perform the proposed actions, and that the average labor rate is $80 per work-hour. Required parts would cost about $1,787 per engine. Based on these figures, we estimate the total cost of the proposed AD to U.S. operators to be $3,770,172.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2007-19-06 General Electric Company Aircraft Engine Group: Amendment 39-15196. Docket No. FAA-2006-25239; Directorate Identifier 2006-NE-23-AD.

Effective Date

(a) This airworthiness directive (AD) becomes effective October 23, 2007.

Affected ADs

(b) None.

Applicability

(c) This AD applies to General Electric Company Aircraft Engine Group (GEAE) CF6-45A, 45A2, -50A, -50C, -50CA, -50C1, -50C2, -50C2B, -50C2D, -50C2F, -50C2R, -50E, -50E1, -50E2, and -50E2B turbofan engines that have a main engine control (MEC) with a part number (P/N) specified in Table 1 of this AD installed. These engines are installed on, but not limited to, Airbus A300 series airplanes, McDonnell Douglas DC-10, KC-10, and MD-10 series airplanes, and Boeing 747 series airplanes.

Table 1.—Affected Woodward and GEAE P/Ns for MECs by Engine Model Series
Engine model series | Woodward P/N | GEAE P/N
CF6-50A, -50C, -50CA, -50C1, -50C2, -50C2B, -50C2D, -50C2F, -50C2R. | 8062-275 8062-279 | 9070M55P42 9070M55P44
| 8062-287 | 9070M55P49
| 8062-289 | 9070M55P51
| 8062-819 | 9070M55P101
| 8062-822 | 9070M55P102
| 8062-824 | 9070M55P103
| 8062-823 | 9070M55P104
| 8062-826 | 9070M55P105
| 8062-827 | 9070M55P106
| 8062-828 | 9070M55P107
| 8062-829 | 9070M55P108
CF6-45A, -45A2, -50E, -50E1, -50E2, -50E2B | 8062-276 8062-280 | 9187M29P10 9187M29P11
| 8062-290 | 9187M29P14
| 8062-291 | 9187M29P15
| 8062-817 | 9187M29P100
| 8062-820 | 9187M29P101
| 8062-896 | 9187M29P22
| 8062-897 | 9187M29P23
| 8062-898 | 9187M29P20
| 8062-899 | 9187M29P21

(d) This AD results from reports of five events involving fractured compressor discharge pressure (CDP) restoring spring assembly. We are issuing this AD to prevent loss of engine thrust control that could lead to loss of control of the airplane.

Compliance

(e) You are responsible for having the actions required by this AD performed within the compliance times specified unless the actions have already been done.

Replacing the CDP Restoring Spring Assembly on CF6-50A Engines and -50C Series Engines

(f) For CF6-50A model engines and -50C series engines that have an MEC that has a P/N listed in Table 1 of this AD, replace the CDP restoring spring assembly as follows in Table 2 of this AD:

Table 2.—Compliance Schedule for CF6-50A and -50C Engines
If the CDP restoring spring assembly in your MEC | Then | By | Use
(1) Was already replaced using GEAE CF6-50 S/B 73-0119, dated March 21, 2005 | Re-mark the MEC | The next time the MEC is routed for repair such as the next MEC shop visit | Paragraph 3.A. of the Accomplishment Instructions of SB No. CF6-50 S/B 73-0119, Revision 02, dated March 9, 2007.
(2) Was already replaced within 10,000 or fewer hours time-in-service (TIS) before the effective date of this AD, and the replacement spring assembly (P/N 3018-248) had zero hours TIS | Replace the spring assembly and remark the MEC | The first MEC shop visit or engine shop visit after the MEC exceeds 10,000 hours TIS, but do not exceed 20,000 hours TIS | Paragraph 3.A. of the Accomplishment Instructions of SB No. CF6-50 S/B 73-0119, Revision 02, dated March 9, 2007.
(3) Has more then 10,000 hours TIS | Replace the spring assembly and remark the MEC | The next MEC shop visit or engine shop visit whichever occurs first | Paragraph 3.A. of the Accomplishment Instructions of SB No. CF6-50 S/B 73-0119, Revision 02, dated March 9, 2007.

Replacing the CDP Restoring Spring Assembly on CF6-45A and -50E Series Engines

(g) For CF6-45A series and -50E series engines that have an MEC that has a P/N listed in Table 1 of this AD, replace the CDP restoring spring assembly as follows in Table 3 of this AD:

Table 3.—Compliance Schedule for CF6-45A and -50E Engines
If the CDP restoring spring assembly in your MEC | Then | By | Use
(1) Was already replaced within 10,000 or fewer hours time-in-service (TIS) before the effective date of this AD, and the replacement spring assembly (P/N 3018-248) had zero hours TIS | Replace the spring assembly and remark the MEC | The first MEC shop visit or engine shop visit after the MEC exceeds 10,000 hours TIS, but do not exceed 20,000 hours TIS | Paragraph 3.A. of the Accomplishment Instructions of SB No. CF6-50 S/B 73-0120, dated March 21, 2007.
(2) Has more then 10,000 hours TIS | Replace the spring assembly and remark the MEC | The next MEC shop visit or engine shop visit whichever occurs first | Paragraph 3.A. of the Accomplishment Instructions of SB No. CF6-50 S/B 73-0120, dated March 21, 2007.

Definition

(h) For the purpose of this AD, a shop visit is induction of the engine or MEC into the shop for any cause.

Installation Prohibition

(i) After the effective date of the AD, do not install an MEC that:

(1) Has not complied with SB No. CF6-50 S/B 73-0119, Revision 02, dated March 9, 2007 or earlier revision, or SB No. CF6-50 S/B 73-0120, dated March 21, 2007, or

(2) Has not had the CDP restoring spring replaced with a spring assembly, P/N 3018-248, or FAA-approved equivalent spring assembly, within the previous 10,000 hours of MEC operation.

Alternative Methods of Compliance

(j) The Manager, Engine Certification Office, has the authority to approve alternative methods of compliance for this AD if requested using the procedures found in 14 CFR 39.19.

Related Information

(k) None.

(l) Tara Chaidez, Aerospace Engineer, Engine Certification Office, FAA, Engine & Propeller Directorate, 12 New England Executive Park, Burlington, MA 01803; telephone (781) 238-7773; fax (781) 238-7199, for more information about this AD.

Material Incorporated by Reference

(m) You must use the service information specified in Table 4 to perform the replacements required by this AD. The Director of the Federal Register approved the incorporation by reference of the documents listed in Table 4 of this AD in accordance with 5 U.S.C. 552(a) and 1 CFR part 51. Contact General Electric Company via GE-Aviation, Attn: Distributions, 111 Merchant St., Room 230, Cincinnati, Ohio 45246; telephone (513) 552-3272; fax (513) 552-3329, for a copy of this service information. You may review copies at the FAA, 12 New England Executive Park, Burlington, MA; or at the National Archives and Records Administration (NARA). For information on the availability of this material at NARA, call 202-741-6030, or go to: http://www.archives.gov/federal-register/cfr/ibr-locations.html.

Table 4.—Incorporation by Reference
Service Bulletin No. | Page | Revision | Date
CF6-50 S/B 73-0119 | ALL | 02 | March 9, 2007.
Total Pages—11
CF6-50 S/B 73-0120 | ALL | Original | March 21, 2007.
Total Pages—11

Issued in Burlington, Massachusetts, on September 7, 2007.
Peter A. White,
Acting Manager, Engine and Propeller Directorate, Aircraft Certification Service.

[FR Doc. E7-18134 Filed 9-17-07; 8:45 am]

BILLING CODE 4910-13-P